NATIONAL SCIENCE FOUNDATION

Special Emphasis Panel in Chemical and Transport Systems; Notice of Meeting

In accordance with the Federal Advisory Committee Act (Pub. L. 92-463, as amended), the National Science Foundation announces the following meeting

Name: Special Emphasis Panel in Chemical and Transport Systems (1190).

Dates/Time: July 14, 2000; 8:00 a.m. to 5:00 p.m.

Place: Room 1295, National Science Foundation, 4201 Wilson Blvd., Arlington, VA 22230.

Type of Meeting: Closed.

Contact Person: Dr. Maria K. Burka, Program Director, Division of Chemical and Transport Systems, Room 525, National Science Foundation, 4201 Wilson Blvd., Arlington, VA 22230. Telephone: (703) 306-1371.

Purpose of Meeting: To provide advice and recommendations concerning proposals submitted to NSF for financial support.

Agenda: To review and evaluate nominations for the FY 2000 New Technologies for the Environment proposals as part of the selection process for awards.

Reason for Closing: The proposal being reviewed includes information of a proprietary or confidential nature, including technical information; financial data; such as salaries, and personal information concerning individuals associated with the proposals. These matters are exempt under 5 U.S.C. 552b(c), (4) and (6) of the Government in the Sunshine Act.

Dated: June 19, 2000.
Karen J. York,
Committee Management Officer.

[FR Doc. 00-15827 Filed 6-21-00; 8:45 am]

BILLING CODE 7555-01-M